DEPARTMENT OF HEALTH AND HUMAN SERVICES

National Institutes of Health

Center for Scientific Review; Amended Notice of Meeting

Notice is hereby given of a change in the meeting of the Nuclear Dynamics and Transport, June 10, 2008, 8 a.m. to June 11, 2008, 5 p.m., Georgetown Suites, 1000 29th Street, NW., Washington, DC 20007 which was published in the Federal Register on April 22, 2008, 73 FR 21636-21639.

The meeting will be held one day only June 10, 2008, from 8 a.m. to 6 p.m. The meeting location remains the same. The meeting is closed to the public.

Dated: May 15, 2008.
Jennifer Spaeth,
Director, Office of Federal Advisory Committee Policy.

[FR Doc. E8-11493 Filed 5-22-08; 8:45 am]

BILLING CODE 4140-01-M